DEPARTMENT OF THE INTERIOR

National Park Service

[NPS-WASO-NAGPRA-23372; PPWOCRADN0-PCU00RP14.R50000]

Notice of Inventory Completion: Arkansas Archeological Survey, Fayetteville, AR; Correction

AGENCY: National Park Service, Interior.

ACTION: Notice; correction.

SUMMARY: The Arkansas Archeological Survey has corrected an inventory of human remains published in a Notice of Inventory Completion in the Federal Register on February 24, 2017. This notice corrects the minimum number of individuals.

ADDRESSES: George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3003, of the correction of an inventory of human remains under the control of the Arkansas Archeological Survey, Fayetteville, AR. The human remains were removed from multiple counties in the state of Arkansas.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (82 FR 11620-11624, February 24, 2017) due to a typographical error. Transfer of control of the items in this correction notice has not occurred.

Correction

In the Federal Register (82 FR 11620-11624, February 24, 2017), column 1, paragraph 5, sentence 1, under the heading “Determinations Made by the Arkansas Archeological Survey,” is corrected by replacing the number “107” with the number “106.”

The Arkansas Archeological Survey is responsible for notifying The Osage Nation (previously listed as the Osage Tribe) that this notice has been published.

Dated: May 8, 2017.
Melanie O'Brien,
Manager, National NAGPRA Program.

[FR Doc. 2017-12298 Filed 6-13-17; 8:45 am]

BILLING CODE 4312-52-P